NATIONAL SCIENCE FOUNDATION

Agency Information Collection Activities: Proposed Collection; Comment Request

AGENCY: National Science Foundation.

ACTION: Notice.

SUMMARY: The National Science Foundation (NSF) is announcing plans to request clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by December 5, 2011 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Ms. Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Request for Clearance for Additional Survey of Master Teaching Fellows (MTFs) as Part of the Evaluation of the National Science Foundation's (NSF) Robert Noyce Teacher Scholarship (Noyce) Program.

Title of Collection: Evaluation of the Robert Noyce Teacher Scholarship Program.

OMB Control No.: 3145-0217.

Expiration Date of Approval: June 30, 2014.

Abstract: The National Science Foundation (NSF) received clearance for the evaluation of the Robert Noyce Teacher Scholarship Program on June 13, 2011 through OMB Control Number: 3145-0217. This included collecting primary data via surveys and interviews with Principal Investigators, Faculty, Noyce Recipients, and K-12 Principals.

The Noyce program operates within NSF's Division of Undergraduate Education, and bridges the higher education and the K-12 system. The Noyce Program encourages talented science, technology, engineering, and mathematics (STEM) majors and professionals to become K-12 mathematics and science teachers. The program provides funds to institutions of higher education (IHEs) to support scholarships, stipends, and academic programs for undergraduate STEM majors and post-baccalaureate STEM students who commit to teaching in high-need K-12 school districts as a condition of receiving financial support. Additionally, the program provides support to undergraduate freshmen and sophomores who serve as summer interns in STEM educational settings as an introduction to a possible career in teaching.

Under the NSF Teaching Fellowship and Master Teaching Fellowship track, the Noyce program supports STEM professionals who enroll as NSF Teaching Fellows (TFs) in master's degree programs leading to teacher certification by providing academic courses, professional development, and salary supplements as the Teaching Fellows fulfill a four-year teaching commitment in a high need school district. This track also supports exemplary math and science teachers, who have master's degrees, to become Master Teaching Fellows (MTFs) in high need school districts by providing professional development and salary supplements.

Since TFs are supported by the Noyce program in preparing for teacher certification and their early years of teaching, they will take the same survey that will be given to other recipients previously approved by OMB.

NSF has developed a new survey as part of the overall evaluation for the MTFs. The MTF survey will be similar to the other recipient surveys for recipients who are teaching. However, it will focus more on the leadership activities expected of these more experienced teachers. Since MTFs were not supported by the Noyce Program in preparing for certification or their early teaching years, there are no questions in this survey about their teacher preparation program or support during early teaching.

Respondents: Individuals, Federal Government, State, Local or Tribal Government and not-for-profit institutions.

Estimated Number of Respondents: 104.

Burden on the Public: 52 hours.

Dated: September 30, 2011.
Suzanne H. Plimpton,
Reports Clearance Officer, National Science Foundation.

[FR Doc. 2011-25701 Filed 10-4-11; 8:45 am]

BILLING CODE 7555-01-P